ARCHITECTURAL AND TRANSPORTATION BARRIERS COMPLIANCE BOARD

36 CFR Part 1195

[Docket No. ATBCB-2012-0003]

RIN 3014-AA40

Medical Diagnostic Equipment Accessibility Standards

AGENCY: Architectural and Transportation Barriers Compliance Board.

ACTION: Notice of Intent to establish advisory committee.

SUMMARY: The Architectural and Transportation Barriers Compliance Board (Access Board) announces its intent to establish an advisory committee to advise the Board on matters addressed in the notice of proposed rulemaking (NPRM) published in the February 9, 2012 edition of the Federal Register, 77 FR 6916, on accessibility standards for medical diagnostic equipment and issues raised in the public comments on the NPRM. The Access Board requests applications from interested organizations for representatives to serve on the advisory committee.

DATES: Submit applications by April 27, 2012.

ADDRESSES: Submit applications by any of the following methods:

• Mail or Hand Delivery/Courier: Office of Technical and Information Services, Architectural and Transportation Barriers Compliance Board, 1331 F Street NW., suite 1000, Washington, DC 20004-1111.

• Fax: 202-272-0081.

• Email: pace@access-board.gov.

FOR FURTHER INFORMATION CONTACT: Rex Pace, Office of Technical and Information Services, Architectural and Transportation Barriers Compliance Board, 1331 F Street NW., suite 1000, Washington, DC 20004-1111. Telephone: (202) 272-0023 (Voice) or (202) 272-0052 (TTY). Email address: pace@access-board.gov.

SUPPLEMENTARY INFORMATION: Section 510 of the Rehabilitation Act (29 U.S.C. 794f) requires the Access Board to issue accessibility standards for medical diagnostic equipment, in consultation with the Commissioner of the Food and Drug Administration. The Access Board published an NPRM in the February 9, 2012 edition of the Federal Register, 77 FR 6916, proposing the accessibility standards. The proposed standards contain minimum technical criteria to ensure that medical diagnostic equipment, including examination tables, examination chairs, weight scales, mammography equipment, and other imaging equipment used by health care providers for diagnostic purposes are accessible to and usable by individuals with disabilities. The proposed standards are intended to ensure, to the maximum extent possible, independent entry to, use of, and exit from such equipment by individuals with disabilities. The proposed standards do not impose any mandatory requirements on health care providers or medical device manufacturers. However, other agencies may issue regulations or adopt policies that require health care providers subject to the agency's jurisdiction to acquire accessible medical diagnostic equipment that conforms to the standards. The NPRM and information related to the proposed standards are available on the Access Board's Web site at: http://www.access-board.gov/medical-equipment.htm.

At its January 11, 2012 meeting, the Access Board voted to form an advisory committee (Committee) to advise the Board on matters addressed in the NPRM. The Committee will make recommendations to the Access Board on the technical criteria proposed in the NPRM and issues raised in public comments on the NPRM, including responses to the questions in the NPRM. The comment period on the NPRM ends on June 8, 2012. The Access Board will conduct a preliminary analysis of the public comments and plans to schedule the first meeting of the Committee in September 2012. The Committee is expected to hold four meetings and present a report with its recommendations to the Access Board within two months of the Committee's first meeting.

The Access Board requests applications for representatives of the following interests for membership on the Committee:

• Medical device manufacturers;

• Health care providers;

• Standards setting organizations;

• Organizations representing individuals with disabilities;

• Federal agencies; and

• Other organizations affected by the proposed standards.

The number of Committee members will be limited so that the Committee's work can be accomplished effectively. The Committee will be balanced in terms of interests represented. The Access Board encourages organizations with similar interests to submit a single application to represent their interests. Although the Committee will be limited in size, there will be opportunities for the public to present information to the Committee and to comment at each Committee meeting. Federally registered lobbyists may not be appointed to the Committee, pursuant to Presidential Memorandum dated June 18, 2010, entitled “Lobbyists on Agency Boards and Commissions” (http://www.whitehouse.gov/the-press-office/presidential-memorandum-lobbyists-agency-boards-and-commissions).

Applications should be sent to the Access Board at the address listed at the beginning of this notice. There is no specific application form. The application should include the following information:

• Name of the organization;

• Interests represented by the organization;

• Person who will represent the organization and an alternate, and the title, address, telephone number, and email address for the representative and alternate;

• Description of the representative's qualifications, including engineering, technical, and design expertise; knowledge of making medical diagnostic equipment accessible to individuals with disabilities; or other expertise related to the rulemaking; and

• Certification that the representative and alternate are not federally registered lobbyists.

Committee members will not be compensated for their service. The Access Board may, at its discretion, pay travel expenses for a limited number of persons who would otherwise be unable to participate on the Committee. Committee members will serve as representatives of their organizations, not as individuals. Committee members will not be considered special government employees and will not be required to file confidential financial disclosure reports.

After the applications have been reviewed, the Access Board will publish a notice in the Federal Register announcing the appointment of Committee members and the first meeting of the Committee. The Committee will operate in accordance with the Federal Advisory Committee Act, 5 U.S.C. app 2. All Committee meetings will be held at the Access Board's office in Washington, DC. Each meeting will be open to the public. A notice of each meeting will be published in the Federal Register at least 15 days in advance of the meeting. Records will be kept of each meeting and made available for public inspection.

David Capozzi,
Executive Director.

[FR Doc. 2012-5964 Filed 3-12-12; 8:45 am]

BILLING CODE 8150-01-P